DEPARTMENT OF THE INTERIOR

Bureau of Land Management

[MT-070-1990-EX]

Notice of Availability of the Draft Supplemental Environmental Impact Statement (SEIS) for the Golden Sunlight Mine, Jefferson County, Montana

AGENCY: Bureau of Land Management, Interior.

ACTION: Notice of Availability.

SUMMARY: In accordance with the National Environmental Policy Act of 1969 (NEPA) a Draft Supplemental Environmental Impact Statement (SEIS) has been prepared for the Golden Sunlight Mine administered by the Bureau of Land Management's Butte Field Office (BLM) and the Montana Department of Environmental Quality (DEQ). The SEIS addresses alternatives and potential impacts and mitigating measures associated with Golden Sunlight Mine's proposed pit backfill.

DATES: We will accept written comments on the Draft SEIS for 60 days following the date the Environmental Protection Agency publishes the Notice of Availability in the Federal Register. We will announce future meetings and any other public involvement activities at least 15 days in advance through public notices, media news releases, and/or mailings. The Draft SEIS will be posted on the Montana DEQ Web site (http://www.deq.state.mt.us).

ADDRESSES: Send your written comments concerning this notice to: Greg Hallsten, Montana Department of Environmental Quality, PO Box 200901, Helena, MT 59620-0901. Submit electronic comments to: ghallsten@state.mt.us.

FOR FURTHER INFORMATION CONTACT: For further information and/or to request a copy of the document, contact: Greg Hallsten, Montana Department of Environmental Quality, P.O. Box 200901, Helena, MT 59620-0901 or David Williams, Bureau of Land Management, Butte Field Office, 106 N. Parkmont, Butte, MT 59701.

SUPPLEMENTARY INFORMATION: The proposed Golden Sunlight Mine pit backfill and reclamation is in response to a District Court order stipulating that reclamation of the open pit be carried out in accordance with the Montana Metal Mine Reclamation Act. The public is invited to review and comment on the range and adequacy of the alternatives, potential environmental impacts, and proposed mitigation of impacts in the SEIS. For comments to be most helpful, they should be specific in identifying any concerns or conflicts the reviewer may have with the analysis in the SEIS.

Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

Richard M. Hotaling,
Field Manager.

[FR Doc. 04-27297 Filed 12-15-04; 8:45 am]

BILLING CODE 4310-$$-P